DEPARTMENT OF DEFENSE

Department of the Navy

[No. USN-2007-0048]

Proposed Collection; Comment Request

AGENCY: Department of the Navy, DoD.

ACTION: Notice.

SUMMARY: In compliance with the requirement of Section 3506(c)(2)(A) of the Paperwork Reduction Act of 1995 the Naval Health Research Center (NHRC), Department of the Navy, announces a new proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by November 27, 2007.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to Dr. Jerry Larson, Ph.D.; Head, Behavioral Science and Epidemiology Program, Naval Health Research Center; P.O. Box 85122 San Diego, CA 92186-5122; telephone 619-553-8402 (this is not a toll-free number) or fax: 619553-8459.

Title and OMB Number: Mental Health Issues Among Deployed Personnel: Longitudinal Assessment of the Resilience of Deployed Sailors and Marines—Follow-up; OMB Number 0703-TBD.

Needs and Uses: The proposed study builds on an existing study assessing the prevalence of mental health outcomes among Sailors and Marines transitioning from the Service, and identifying predictors of and changes in mental health and resilience over time. DoD regulations stipulate that all military personnel must receive pre-separation counseling no less than 90 days before leaving active duty. Enlisted Sailors and Marines attending Transition Assistance Program (TAP) workshops were invited to participate in the current research. As part of the baseline component, TAP enrollees were surveyed at 12 installations (8 Navy and 4 Marine Corps) during the Summer—Fall 2007 time frame until the target sample size (N = 6000; 3000 in each Service) was obtained. Those respondents with high combat exposure will be assessed through a follow-on survey 6 months after separation from Military service, when participants have transitioned into civilian life.

Affected Public: Navy and Marine Corps personnel who have separated from the Military in the six-month period following the baseline survey.

Annual Burden Hours: 1800.

Number of Respondents: 1800.

Responses per Respondent: 1.

Average Burden per Response: 1 hour.

Frequency: One time.

SUPPLEMENTARY INFORMATION:

Summary of Information Collection

This study population is unique because there is a need for longitudinal mental health research in the Military that spans both Active Duty and the period of reintegration into civilian life after combat exposure. Through the study's longitudinal tracking of subjects after their return to civilian life, this will also be the first research effort to examine the prospective value of the recently implemented Post-Deployment Health Reassessment (PDHRA). Furthermore, with our access to the Career History Archival Medical and Personnel System (CHAMPS) database for personnel and medical records, it is possible to compare both confidential PDHRA responses obtained for research purposes with PDHRA responses obtained for official purposes to determine the degree of underreporting in this official screening effort. Findings will be used to better inform transition, screening, and Combat Stress Control programs about the mental health needs of Active-Duty personnel, Reservists, and Veterans.

The baseline questionnaire includes a Combat Exposure Scale used to estimate high combat exposure and to inform participants who exceed a predetermined score that they are eligible for the second phase of study and request their participation in the follow-up interviews. NHRC proposes tracking over time these respondents for the longitudinal portion of the study. Furthermore, the subsequent mental well-being of this high-risk cohort will be assessed through these new data collected 6 months after the participants of the baseline survey have transitioned to civilian life. Data from extant historical personnel and medical data will also be combined with survey data to develop models that demonstrate the influence of combat, and a variety of covariates on mental health symptoms, resilience, and substance abuse. We estimate that approximately 1,800 of the 6,000 baseline participants will be eligible for and consent to participate in the 6 month follow-up survey. In order to ensure that we can locate these respondents, the questionnaire will include name, relocation plans, names and contact information for two friends or relatives who always know where the respondent is living, and the respondent's date of birth and social security number. The follow-up surveys will be sent to respondents through the mail. Respondents will also have the option of completing this survey via the Web, which will closely simulate the hardcopy version of the instrument.

Approximately 15% of Military personnel are women. Therefore, it is estimated that 15% will be the proportion of women completing the survey; the remaining 85% will be male respondents.

Dated: September 21, 2007.
Patricia L. Toppings,
Alternate OSD Federal Register Liaison Officer, Department of Defense.

[FR Doc. 07-4784 Filed 9-27-07; 8:45 am]

BILLING CODE 5001-06-M